DEPARTMENT OF ENERGY

Federal Energy Regulatory Commission

[Docket No. ER06-615-000]

California Independent System Operator Corporation; Notice of FERC Staff Attendance

May 17, 2007.

The Federal Energy Regulatory Commission (Commission) hereby gives notice that on May 23-25, 2007 members of its staff will attend the California Independent System Operator's (CAISO) training program entitled, “Market Redesign and Technology Upgrade (MRTU) Bid-to-Bill Training.” This training covers the MRTU market process timeline, bids, settlements, and billing, and will be held at the CAISO, 151 Blue Ravine Road, Folsom, CA. The agenda and other documents for the training are available on the CAISO's Web site, http://www.caiso.com.

This training is sponsored by the CAISO and is open to interested parties and market participants. Commission staff attendance is part of its ongoing training activities. The training may discuss matters at issue in the above captioned docket.

For further information, contact Steven Michals at steven.michals@ferc.gov; (202) 502-6373.

Kimberly D. Bose,
Secretary.

[FR Doc. E7-9989 Filed 5-23-07; 8:45 am]

BILLING CODE 6717-01-P